DEPARTMENT OF LABOR

Employment and Training Administration

[Docket No. TA-W-38,325, TA-W-38,325A]

Posies, Inc., Rockport, ME; Posies, Inc., Posies Showroom, Dallas, TX; Amended Certification Regarding Eligibility To Apply for Worker Adjustment Assistance

In accordance with Section 223 of the Trade Act of 1974 (19 U.S.C. 2273) the Department of Labor issued a Notice of Certification Regarding Eligibility to Apply for Worker Adjustment Assistance on February 20, 2001, applicable to workers of Posies, Inc., Rockport, Maine. The notice was published in the Federal Register on April 5, 2001 (66 FR 18118).

At the request of the State agency, the Department reviewed the certification for workers of the subject firm. New information shows that worker separations occurred at Posies' Showroom, Dallas, Texas when the company closed in August, 2000. The Dallas, Texas location was the corporate showroom, sales and marketing office which supported the production of children's dresses at the subject firm's Rockport, Maine facility.

Based on these findings, the Department is amending the certification to include workers of Posies, Inc., Posies Showroom, Dallas, Texas.

The intent of the Department's certification is to include all workers of Posies, Inc. who were adversely affected by increased imports of children's dresses.

The amended notice applicable to TA-W-38, 325 is hereby issued as follows:

All workers of Posies, Inc., Rockport, Maine (TA-W-38,325) and the Posies Showroom, Dallas, Texas (TA-W-38,325A) who became totally or partially separated from employment on or after November 3, 1999, through February 20, 2003, are eligible to apply for adjustment assistance under Section 223 of the Trade Act of 1974.

Signed at Washington, DC this 30th day of April, 2001.
Linda G. Poole,
Certifying Officer, Division of Trade Adjustment Assistance.

[FR Doc. 01-12567 Filed 5-17-01; 8:45 am]

BILLING CODE 4510-30-M